SMALL BUSINESS ADMINISTRATION

[Disaster Declaration #20585 and #20586; CONNECTICUT Disaster Number CT-20001]

Presidential Declaration of a Major Disaster for the State of Connecticut

AGENCY: U.S. Small Business Administration.

ACTION: Notice.

SUMMARY: This is a Notice of the Presidential declaration of a major disaster for the State of Connecticut (FEMA-4820-DR), dated September 20, 2024.

DATES: Issued on September 20, 2024.

Physical Loan Application Deadline Date: November 19, 2024.

Economic Injury (EIDL) Loan Application Deadline Date: June 20, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on September 20, 2024, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Incident: Severe Storm, Flooding, Landslides, and Mudslides.

Incident Period: August 18, 2024 through August 19, 2024.

Primary Counties (Physical Damage and Economic Injury Loans): Fairfield, Litchfield, New Haven

Contiguous Counties (Economic Injury Loans Only):

Connecticut: Hartford, Middlesex

Massachusetts: Berkshire, Hampden

New York: Dutchess, Putnam, Westchester

The Interest Rates are:

| Percent
For Physical Damage:
Homeowners with Credit Available Elsewhere | 5.625
Homeowners without Credit Available Elsewhere | 2.813
Businesses with Credit Available Elsewhere | 8.000
Businesses without Credit Available Elsewhere | 4.000
Non-Profit Organizations with Credit Available Elsewhere | 3.250
Non-Profit Organizations without Credit Available Elsewhere | 3.250
For Economic Injury:
Business and Small Agricultural Cooperatives without Credit Available Elsewhere | 4.000
Non-Profit Organizations without Credit Available Elsewhere | 3.250

The number assigned to this disaster for physical damage is 205856 and for economic injury is 205860.

(Catalog of Federal Domestic Assistance Number 59008)

Francisco Sánchez, Jr.,
Associate Administrator, Office of Disaster Recovery & Resilience.

[FR Doc. 2024-22273 Filed 9-27-24; 8:45 am]

BILLING CODE 8026-09-P